SECURITIES AND EXCHANGE COMMISSION

[File No. 500-1]

Order of Suspension of Trading; In the Matter of HouseRaising, Inc., iElement Corporation, InforMedix Holdings, Inc., Nortia Capital Partners, Inc., and PC Universe, Inc.

November 19, 2013.

It appears to the Securities and Exchange Commission that there is a lack of current and accurate information concerning the securities of HouseRaising, Inc. because it has not filed any periodic reports since the period ended September 30, 2007.

It appears to the Securities and Exchange Commission that there is a lack of current and accurate information concerning the securities of iElement Corporation because it has not filed any periodic reports since the period ended December 31, 2008.

It appears to the Securities and Exchange Commission that there is a lack of current and accurate information concerning the securities of InforMedix Holdings, Inc. because it has not filed any periodic reports since the period ended September 30, 2008.

It appears to the Securities and Exchange Commission that there is a lack of current and accurate information concerning the securities of Nortia Capital Partners, Inc. because it has not filed any periodic reports since the period ended January 31, 2009.

It appears to the Securities and Exchange Commission that there is a lack of current and accurate information concerning the securities of PC Universe, Inc. because it has not filed any periodic reports since the period ended June 30, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EST on November 19, 2013, through 11:59 p.m. EST on December 3, 2013.

By the Commission.
Elizabeth M. Murphy,
Secretary.

[FR Doc. 2013-28025 Filed 11-19-13; 11:15 am]

BILLING CODE 8011-01-P